DEPARTMENT OF TRANSPORTATION

Federal Motor Carrier Safety Administration

[Docket No. FMCSA-2018-0278]

Agency Information Collection Activities; New Information Collection: Crime Prevention for Truckers

AGENCY: Federal Motor Carrier Safety Administration (FMCSA), DOT.

ACTION: Notice and request for comments.

SUMMARY: In accordance with the Paperwork Reduction Act of 1995, the Federal Motor Carrier Safety Administration (FMCSA) announces its plan to submit the Information Collection Request (ICR) described below to the Office of Management and Budget (OMB) for its review and approval and invites public comment. This request, titled “Crime Prevention for Truckers,” will allow for a study to understand the prevalence, seriousness, and nature of the problem of harassment and assaults against minority and female truckers.

DATES: We must receive your comments on or before September 23, 2019.

ADDRESSES: You may submit comments identified by Federal Docket Management System (FDMS) Docket Number FMCSA-2018-0278 using any of the following methods:

• Federal eRulemaking Portal: http://www.regulations.gov. Follow the online instructions for submitting comments.

• Fax: 1-202-493-2251.

• Mail: Docket Operations; U.S. Department of Transportation, 1200 New Jersey Avenue SE, West Building, Ground Floor, Room W12-140, Washington, DC 20590-0001.

• Hand Delivery or Courier: U.S. Department of Transportation, 1200 New Jersey Avenue SE, West Building, Ground Floor, Room W12-140, Washington, DC 20590-0001 between 9 a.m. and 5 p.m. e.t., Monday through Friday, except Federal holidays.

Instructions: All submissions must include the Agency name and docket number. For detailed instructions on submitting comments, see the Public Participation heading below. Note that all comments received will be posted without change to http://www.regulations.gov, including any personal information provided. Please see the Privacy Act heading below.

Docket: For access to the docket to read background documents or comments received, go to http://www.regulations.gov, and follow the online instructions for accessing the dockets, or go to the street address listed above.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Public Participation: The Federal eRulemaking Portal is available 24 hours each day, 365 days each year. You can obtain electronic submission and retrieval help and guidelines under the “help” section of the Federal eRulemaking Portal website. If you want us to notify you that we received your comments, please include a self-addressed, stamped envelope or postcard, or print the acknowledgement page that appears after submitting comments online. Comments received after the comment closing date will be included in the docket and will be considered to the extent practicable.

FOR FURTHER INFORMATION CONTACT: Jeff Loftus, Division Chief, Technology Division, Department of Transportation, FMCSA, West Building, 6th Floor, 1200 New Jersey Avenue SE, Washington, DC 20590. Telephone: 202-385-2363; email: jeff.loftus@dot.gov.

SUPPLEMENTARY INFORMATION:

Background: FMCSA has accumulated evidence, both documentary and anecdotal, for a serious pattern of harassment- and assault-related crimes against female and minority male truckers. For example, Security Journal, in a 2006 article titled “Workplace Violence against Female Long-haul Truckers,” reported that 42 percent of female long-haul truckers reported experiencing one or more types of workplace violence. USA Today, in a 2017 article titled “Rigged,” gave accounts of repeated harassment of minority male truckers. Currently, FMCSA does not provide materials or training to truckers, including minority and female truckers, on how to protect themselves from being stalked, harassed, assaulted, or robbed. Before effective solutions for preventing or reducing these crimes against female and minority truckers can be developed and implemented, FMCSA must understand the prevalence, seriousness, and nature of the problem of harassment and assaults against truckers. Currently, there is insufficient data. The frequency and number of harassment- and assault-related crimes occurring, the portion that are unreported, and reasons for underreporting are unknown.

The purpose of this research study is to gather information to answer these questions, to understand how serious the problem is, and to report it to FMCSA so the Agency can decide on further options for evaluation and action. FMCSA needs to explore and validate the problem of harassment- and assault-related crimes, especially against female and minority male truckers for two reasons. First, there seems to be a perception among these subpopulations of truckers that they are more vulnerable than others. Second, there is a critical shortage of truckers, and helping these subpopulations of truckers protect themselves from crimes could draw more truckers from these subpopulations, while stemming turnover, to alleviate the shortage.

FMCSA has contracted with Battelle to create and execute a survey of truck drivers to gather this information. This exploratory survey will be limited in scale and scope. Quantitative and qualitative analysis of the data will help the Agency to understand the nature and extent of the problem and begin to formulate an approach to reducing it. The results will not be used for rulemaking.

The survey of professional truck drivers will be limited to female and minority male drivers. The survey will ask whether the drivers have experienced race- or gender-related harassment or crimes on the job. If the driver has had such an experience, the survey will ask follow-up questions on where and when the incidents occurred, any information the respondent knows about the perpetrator, and whether the respondent reported the incident. The survey will be anonymous. None of the questions ask for information that could personally identify the respondent or any perpetrators involved. Some respondents will take the survey online, and others will take it in the form of an in-person interview. Identical questions will be asked of all drivers, but answers from males and females will be analyzed separately.

A maximum of 440 males and 440 females will be included in the information collection. The information will be collected through a combination of an online survey and in-person interviews. Approximately 160 in-person interviews will be completed, 80 females and 80 minority males. The balance will take the survey electronically. Some individuals may be eligible to participate in the survey but will not have had any recent experience of harassment or assault. These individuals will be included in the final results for calculation of prevalence. The total number of respondents targeted for those who experienced some sort of harassment or assault will be 400 in each group. If 400 targeted individuals are reached before the overall cap of 440 respondents, data collection will be stopped for that group. Individuals who are screened but fail to qualify as females and minority males, or with other criteria such as not being active drivers, will not be included in the interview counts, though a tabulation of the number of such contacts and reason for their disqualification will be reported to better understand resource needs and burden in future data collection efforts of this type. A $25 incentive will be given to eligible respondents to the in-person interview or the online survey. For respondents to be eligible and to receive the incentive, they must report that they are a female or a minority male who has driven a truck professionally in the past 2 years and complete the survey—at least through the initial questions of what events, if any, they have experienced.

Battelle statisticians experienced in surveys and in analyzing data for FMCSA will execute the data analysis plan. Findings will be presented in a report that will be made available on the Agency's website so that interested stakeholders and the general public will be aware of the findings. Battelle is required to deliver a public-use dataset at the conclusion of the project. By understanding the nature and prevalence of crimes against truckers, FMCSA will be able to formulate and promote programs to address the problem. The report may be useful to law enforcement personnel, motor carriers, truck drivers, operators of private truck stops, and others interested in addressing the situation.

If study findings indicate a significant problem that merits action, FMCSA may consider developing training or outreach materials to help truckers protect themselves from crime or harassment. Such training or outreach materials could help foster motor carriers' employee retention efforts and help make the truck driving profession more attractive to a greater range of people.

Title: Crime Prevention for Truckers.

OMB Control Number: 2126-00XX.

Type of Request: New collection.

Respondents: Female and minority male truck drivers.

Estimated Number of Respondents: Maximum of 880 truck drivers [80 respondents reporting no incidents of harassment or crime + 800 respondents reporting one or more incidents of harassment or crime].

Estimated Time per Response: Varies. [8 minutes for respondents not reporting incidents of harassment or crime; 20 minutes for respondents reporting an incident of harassment or crime].

Expiration Date: This is a new ICR.

Frequency of Response: Once.

Estimated Total Annual Burden: 277.3 hours [80 respondents reporting no incidents × (8 minutes ÷ 60 minutes per hour) + 800 respondents reporting one or more incidents × (20 minutes ÷ 60 minutes per hour)].

Public Comments Invited: FMCSA invites comments on any aspect of this information collection, including: (1) Whether the proposed collection is necessary for the performance of FMCSA's functions; (2) the accuracy of the estimated burden; (3) ways for FMCSA to enhance the quality, usefulness, and clarity of the collected information; and (4) ways that the burden could be minimized without reducing the quality of the collected information. The Agency will summarize or include comments in the request for OMB's clearance of this information collection.

Issued under the authority of 49 CFR 1.87 on: July 17, 2019.
Kelly Regal,
Associate Administrator for Office of Research and Information Technology.

[FR Doc. 2019-15609 Filed 7-22-19; 8:45 am]

BILLING CODE 4910-EX-P